DEPARTMENT OF DEFENSE

Office of the Secretary

Board of Visitors Meeting

AGENCY: Defense Acquisition University.

ACTION: Notice; Board of Visitors meeting (BoV).

SUMMARY: The next meeting of the Defense Acquisition University (DAU) Board of Visitors (BoV) will be held at Defense Acquisition University-Fort Belvoir, VA. The purpose of this meeting is to report back to the BoV on continuing items of interest.

DATES: May 18, 2005 from 0900-1500.

ADDRESSES: Scott Hall, Defense Acquisition University, Fort Belvoir, VA 22060.

FOR FURTHER INFORMATION CONTACT: Ms. Patricia Cizmadia at (703) 805-5134.

SUPPLEMENTARY INFORMATION: The meeting is open to the public; however, because of space limitations, allocation of seating will be made on a first-come, first served basis. Persons desiring to attend the meeting should call Ms. Patricia Cizrnadia at (703) 805-5134.

Dated: April 18, 2005.
Jeannette Owings-Ballard,
OSD Federal Register Liaison Officer, Department of Defense.

[FR Doc. 05-8194 Filed 4-22-05; 8:45 am]

BILLING CODE 5001-06-M